DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820.

SUPPLEMENTARY INFORMATION: The Federal Emergency Management Agency (FEMA) makes the final determinations listed below for the modified BFEs for each community listed. These modified elevations have been published in newspapers of local circulation and ninety (90) days have elapsed since that publication. The Assistant Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Garland County, Arkansas, and Incorporated Areas
Docket No.: FEMA-B-1021
Molly Creek | Weston Road | +409 | City of Hot Springs.
| Approximately 450 feet upstream of Albert Pike Road/US 270 | +544
Molly Creek Tributary 1 | Stover Road (Formerly Marie St.) | +484 | City of Hot Springs.
| Molly Springs Road | +506
* National Geodetic Vertical Datum.
+ North American Vertical Datum.
# Depth in feet above ground.
ADDRESSES
City of Hot Springs
Maps are available for inspection at the Garland County Library, 1427 Malvern Avenue, Hot Springs, AR 71901.
Ventura County, California, and Incorporated Areas
Docket Nos.: FEMA-D-7642 and FEMA-B-1024
Arroyo Santa Rosa | At the confluence with Conejo Creek | +233 | Unincorporated Areas of Ventura County.
| Approximately 0.6 mile upstream of East Las Posas Road | +378
Arroyo Santa Rosa Overflow | Between Arroyo Santa Rosa and Arroyo Santa Rosa Tributary at East Las Posas Road | +2 | Unincorporated Areas of Ventura County.
Arroyo Santa Rosa Tributary | At the confluence with Arroyo Santa Rosa | +250 | Unincorporated Areas of Ventura County.
| Approximately 400 feet upstream of Santa Rosa Road | +379
Calleguas Creek/ Arroyo Los Posas/ Arroyo Simi | At the downstream side of State Highway 1 | +23 | Unincorporated Areas of Ventura County, City of Camarillo, City of Moorpark, City of Simi Valley.
| Approximately 100 feet downstream of U.S. Highway 101 | +143
| Approximately 0.9 mile upstream of Seminary Road | +248
| Approximately 0.96 mile upstream of Collins Drive | +619
Camarillo Hills Drain | Approximately 0.9 mile upstream of the confluence with Revolon Slough | +62 | Unincorporated Areas of Ventura County, City of Camarillo.
| Approximately 190 feet downstream of South Las Posas Road | +91
| Approximately 40 feet upstream of West Ventura Boulevard | +95
| At Arneill Road | +185
Conejo Creek | At the confluence with Calleguas Creek | +95 | Unincorporated Areas of Ventura County, City of Camarillo, City of Thousand Oaks.
| At confluence of Arroyo Santa Rosa | +233
Edgemore Drain | At the confluence with Camarillo Hills Drain | +117 | City of Camarillo.
| Approximately 520 feet upstream of Getman Street | +153
Gabbert Canyon Creek | At the confluence with Calleguas Creek | +425 | Unincorporated Areas of Ventura County.
| At the confluence of Walnut Canyon Drain | +451
Lang Creek | Upstream of Hillcrest Drive | +728 | City of Thousand Oaks.
| Approximately 520 feet upstream of Combes Avenue | +772
Mission Drain | At the confluence with Camarillo Hills Drain | +132 | City of Camarillo.
| Approximately 430 feet downstream of Mission Drive | +173
Peach Hill Wash | At the confluence with Arroyo Simi | +426 | Unincorporated Areas of Ventura County, City of Moorpark.
| Approximately 1,170 feet upstream of Country Hill Road | +477
Somis Drain | At the confluence with Calleguas Creek | +168 | City of Camarillo.
| At Las Posas Road | +203
Thousand Oaks North Drain | At the confluence with Arroyo Conejo | +736 | City of Thousand Oaks.
| Approximately 800 feet upstream of El Cerrito Drive | +889
Walnut Canyon Drain | At the confluence with Gabbert Canyon | +451 | Unincorporated Areas of Ventura County, City of Moorpark.
| Approximately 2,840 feet upstream of Casey Road | +645
West Camarillo Hills Tributary | At the confluence with Camarillo Hills Drain | +124 | City of Camarillo.
| Approximately 20 feet downstream of Las Posas Road | +155
* National Geodetic Vertical Datum.
+ North American Vertical Datum.
# Depth in feet above ground.
ADDRESSES
City of Camarillo
Maps are available for inspection at City Hall, 601 Carmen Drive, Camarillo, CA 93010.
City of Moorpark
Maps are available for inspection at the City Hall, 799 Moorpark Avenue, Moorpark, CA 93021.
City of Simi Valley
Maps are available for inspection at the City Hall, 2929 Tapo Canyon Road, Simi Valley, CA 93063.
City of Thousand Oaks
Maps are available for inspection at the Public Works Department, 2100 Thousand Oaks Boulevard, Thousand Oaks, CA 91362.
Unincorporated Areas of Ventura County
Maps are available for inspection at the Ventura County Hall of Administration, 800 South Victoria Avenue, Ventura, CA 93009.
Kankakee County, Illinois, and Incorporated Areas
Docket No.: FEMA-B-1016
South Branch
Rock Creek | Upstream side of South Locust Street | +665 | Unincorporated Areas of Kankakee County.
| Approximately 2,600 feet downstream of Sycamore Street | +665
* National Geodetic Vertical Datum.
+ North American Vertical Datum.
# Depth in feet above ground.
ADDRESSES
Unincorporated Areas of Kankakee County
Maps are available for inspection at the Kankakee County Administration Building, 189 East Court Street, Kankakee, IL 60901.
Neosho County, Kansas, and Incorporated Areas
Docket No.: FEMA-B-1016
Little Turkey Creek | Approximately 127 feet downstream of Katy Road | +925 | Unincorporated Areas of Neosho County.
| Approximately 675 feet downstream of U.S. Highway 169 | +932
Neosho River | Approximately 1.2 miles downstream of State Highway 39 | +917 | Unincorporated Areas of Neosho County.
| Approximately 1.13 miles upstream of State Highway 39 | +920
Puckets Run Creek | Approximately 120 feet upstream of East State Street | +896 | Unincorporated Areas of Neosho County.
| At East Railroad Street | +897
| Approximately 75 feet downstream of Atchison, Topeka and Santa Fe Railroad | +898
| Approximately 350 feet downstream of Queen Road | +902
Santa Fe Lake | Approximately 115 feet downstream of West 35 Street | +944 | Unincorporated Areas of Neosho County.
| At Atchison, Topeka and Santa Fe Railroad | +945
Tolen Creek | Approximately 0.32 mile upstream of Pratt Road | +896 | Unincorporated Areas of Neosho County.
| Approximately 1.95 miles upstream of Pratt Road | +910
Tributary to Puckets Run Creek | Intersection of Trib Street and Missouri-Kansas-Texas Railroad | +895 | Unincorporated Areas of Neosho County.
| Intersection of Trib Street and East Street | +899
* National Geodetic Vertical Datum.
+ North American Vertical Datum.
# Depth in feet above ground.
ADDRESSES
Unincorporated Areas of Neosho County
Maps are available for inspection at 100 South Main Street, Erie, KS 66733.
Douglas County, Nevada, and Incorporated Areas
Docket No.: FEMA-B-7779
Airport Tributary Wash | Approximately 5,400 feet upstream of Freemont Street | +4958 | Unincorporated Areas of Douglas County.
| Approximately 7,445 feet upstream of Freemont Street | +5019
Airport Wash | Approximately 2,475 feet upstream of East Valley Road | +4902 | Unincorporated Areas of Douglas County.
| Approximately 9,175 feet upstream of East Valley Road | +5009
Bobwhite Wash | Confluence with Juniper Road Wash | +5123 | Unincorporated Areas of Douglas County.
| Approximately 1,390 feet upstream of confluence with Juniper Road Wash | +5135
Buckbrush Wash | Approximately 645 feet downstream of Fuller Avenue | +4786 | Unincorporated Areas of Douglas County.
| Approximately 3,320 feet upstream of Lindsay Lane | +5019
Buckeye Creek | Approximately 4,933 feet downstream of Orbit Way | +4762 | Unincorporated Areas of Douglas County.
| Approximately 7,624 feet upstream of Juniper Road | +5008
Calle De Asco Wash | Confluence with Calle Hermosa Wash | +5070 | Unincorporated Areas of Douglas County.
| Approximately 3,525 feet upstream of confluence with Calle Hermosa Wash | +5114
Calle Hermosa Wash | Approximately 469 feet downstream of Ty Lane | +4884 | Unincorporated Areas of Douglas County.
| Approximately 1,598 feet upstream of Calle Hermosa Road | +5122
Johnson Lane Wash | Approximately 3,555 feet downstream of Squires Street | +4782 | Unincorporated Areas of Douglas County.
| Approximately 2,939 feet upstream of Nye Drive | +4991
Juniper Road Wash | Approximately 1,935 feet downstream of Coyote Road | +4881 | Unincorporated Areas of Douglas County.
| Approximately 3,500 feet upstream of Carlson Drive | +5194
Sunrise Pass Wash | At MacKay Way | +4907 | Unincorporated Areas of Douglas County.
| Approximately 3,310 feet upstream of MacKay Way | +4991
* National Geodetic Vertical Datum.
+ North American Vertical Datum.
# Depth in feet above ground.
ADDRESSES
Unincorporated Areas of Douglas County
Maps are available for inspection at 1615 8th Street, Minden, NV 89423.
Gloucester County, New Jersey (All Jurisdictions)
Docket No.: FEMA-B-1017
Brunt Mill Branch | At county boundary | +87 | Township of Franklin.
| Approximately 1,573 feet upstream of West Boulevard | +93
Delaware River | At county boundary | +9 | Township of Greenwich, Borough of National Park, Borough of Paulsboro, Township of Logan, Township of West Deptford.
| At county boundary | +9
Little Ease Run | Approximately 546 feet downstream of East Washington Drive | +103 | Borough of Clayton, Borough of Glassboro.
| Approximately 2.1 miles upstream of County Route 610 (Academy Street) | +119
Mantua Creek | At mouth | +9 | Township of Deptford, Borough of Glassboro, Borough of Paulsboro, Borough of Pitman, Borough of Wenonah, Township of East Greenwich, Township of Mantua, Township of Washington, Township of West Deptford.
| Approximately 62 feet upstream of County Route 634 (Fish Pond Road) | +110
Oldmans Creek Reach 1 | At mouth | +9 | Township of Logan.
| Approximately 1,034 feet upstream of Interstate 295 | +9
Pargey Creek | At confluence with Repaupo Creek | +9 | Township of East Greenwich, Township of Greenwich, Township of Logan, Township of Woolwich.
| At County Route 653 (Swedesboro Avenue) | +9
Raccoon Creek Reach 1 | At mouth | +9 | Township of Logan, Borough of Swedesboro, Township of Woolwich.
| Approximately 106 feet upstream of County Route 551 (Kings Highway) | +9
Raccoon Creek Reach 2 | Approximately 3,625 feet downstream of County Route 551 (Tomlin Station Road) | +12 | Township of Elk, Borough of Glassboro, Township of Harrison, Township of Woolwich.
| Approximately 2,707 feet upstream of Richwood Road | +110
Repaupo Creek | At confluence with Delaware River | +9 | Township of East Greenwich, Township of Greenwich, Township of Logan.
| Approximately 2,390 feet upstream of State Route 44 | +9
Scotland Run Reach 2 | Approximately 420 feet downstream of County Route 610 (Academy Street) | +111 | Borough of Clayton, Township of Franklin, Township of Monroe.
| Approximately 5,825 feet upstream of County Route 610 (Academy Street) | +118
South Branch Raccoon Creek | Confluence with Raccoon Creek Reach 2 | +16 | Township of Harrison, Township of South Harrison.
| Approximately 657 feet upstream of County Route 581 (Commissioners Road) | +45
Still Run #1 | At confluence with White Sluice Run | +9 | Township of East Greenwich, Township of Greenwich.
| Approximately 0.7 mile upstream of County Route 653 (Swedesboro Avenue) | +9
Still Run #2 | Approximately 1,200 feet upstream of State Highway 55 | +107 | Township of Elk, Borough of Clayton.
| Approximately 5,313 feet upstream of County Route 608 (Clayton Avenue) | +115
White Sluice Run | At mouth | +9 | Township of Greenwich.
| At confluence with London Branch and Still Run #1 | +9
Woodbury Creek | At mouth | +9 | Borough of National Park, City of Woodbury, Township of West Deptford.
| Approximately 7,987 feet upstream of Interstate 295 | +9
* National Geodetic Vertical Datum.
+ North American Vertical Datum.
# Depth in feet above ground.
ADDRESSES
Borough of Clayton
Maps are available for inspection at the Borough Hall, 125 North Delsea Drive, Clayton, NJ 08312.
Borough of Glassboro
Maps are available for inspection at the Borough Hall, 1 South Main Street, Glassboro, NJ 08028.
Borough of National Park
Maps are available for inspection at the Borough Hall, 7 South Grove Avenue, National Park, NJ 08063.
Borough of Paulsboro
Maps are available for inspection at the Paulsboro Municipal Building, 1211 Delaware Street, Paulsboro, NJ 08066.
Borough of Pitman
Maps are available for inspection at the Borough Hall, 110 South Broadway, Pitman, NJ 08071.
Borough of Swedesboro
Maps are available for inspection at the Borough Hall, 1500 Kings Highway, Swedesboro, NJ 08085.
Borough of Wenonah
Maps are available for inspection at the Borough Office, 1 South West Avenue, Wenonah, NJ 08090.
City of Woodbury
Maps are available for inspection at City Hall, 33 Delaware Street, Woodbury, NJ 08096.
Township of Deptford
Maps are available for inspection at the Township Department of Emergency Management, 1011 Cooper Street, Deptford, NJ 08096.
Township of East Greenwich
Maps are available for inspection at the East Greenwich Township Hall/Municipal Building, 159 Democrat Road, Mickleton, NJ 08056.
Township of Elk
Maps are available for inspection at the Elk Township Hall, 667 Whig Lane Road, Monroeville, NJ 08343.
Township of Franklin
Maps are available for inspection at the Franklin Municipal Building, 1571 Delsea Drive, Franklinville, NJ 08322.
Township of Greenwich
Maps are available for inspection at the Greenwich Municipal Building, 420 Washington Street, Gibbstown, NJ 08027.
Township of Harrison
Maps are available for inspection at the Harrison Municipal Building, 114 Bridgeton Pike, Mullica Hill, NJ 08062.
Township of Logan
Maps are available for inspection at the Logan Township Hall, 125 Main Street, Bridgeport, NJ 08302.
Township of Mantua
Maps are available for inspection at the Township Offices, 401 Main Street, Mantua, NJ 08051.
Township of Monroe
Maps are available for inspection at the Monroe Township Hall, 125 Virginia Avenue, Williamstown, NJ 08094.
Township of South Harrison
Maps are available for inspection at the South Harrison Township Hall, 664 Harrisonville Road, Harrisonville, NJ 08039.
Township of Washington
Maps are available for inspection at the Washington Township Municipal Building, 523 Egg Harbor Road, Sewell, NJ 08080.
Township of West Deptford
Maps are available for inspection at the West Deptford Municipal Office, 400 Crown Point Road, West Deptford, NJ 08086.
Township of Woolwich
Maps are available for inspection at the Township Hall, 121 Woodstown Road, Woolwich, NJ 08085.
Waupaca County, Wisconsin, and Incorporated Areas
Docket No.: FEMA-B-1021
Little Wolf River/Big Falls Pond | 0.33 mile downstream of bridge at County Highway G | +879 | Village of Big Falls, Unincorporated Areas of Waupaca County.
| 1.1 miles upstream of bridge at County Highway G | +910
Waupaca River/Weyauwega Lake | 2.65 miles upstream of confluence with Wolf River | +756 | City of Waupaca, City of Weyauwega, Unincorporated Areas of Waupaca County.
| 390 feet upstream of bridge at Anderson Road | +893
Wolf River | Southern Waupaca County boundary | +753 | Village of Fremont, Unincorporated Areas of Waupaca County.
| 3.58 miles downstream of bridge at County Highway X | +756
* National Geodetic Vertical Datum.
+ North American Vertical Datum.
# Depth in feet above ground.
ADDRESSES
City of Waupaca
Maps are available for inspection at 111 South Main Street, Waupaca, WI 54981.
City of Weyauwega
Maps are available for inspection at 109 East Main Street, Weyauwega, WI 54983.
Unincorporated Areas of Waupaca County
Maps are available for inspection at 811 Harding Street, Waupaca, WI 54981.
Village of Big Falls
Maps are available for inspection at 220 Main Street, Big Falls, WI 54926.
Village of Fremont
Maps are available for inspection at 317 Wolf River Drive, Fremont, WI 54940.

(Catalog of Federal Domestic Assistance No. 97.022, “Flood Insurance.”)

Deborah S. Ingram,
Acting Deputy Assistant Administrator for Mitigation, Mitigation Directorate, Department of Homeland Security, Federal Emergency Management Agency.

[FR Doc. E9-28310 Filed 11-24-09; 8:45 am]

BILLING CODE 9110-12-P